DEPARTMENT OF TRANSPORTATION

Federal Aviation Administration

14 CFR Part 39

RIN 2120-AA64

[Docket No. FAA-2006-25896; Directorate Identifier 2006-NE-33-AD]

Airworthiness Directives; General Electric Company CF34-10E Series Turbofan Engines

AGENCY: Federal Aviation Administration (FAA), Department of Transportation (DOT).

ACTION: Notice of proposed rulemaking (NPRM).

SUMMARY: The FAA proposes to supersede an existing airworthiness directive (AD) for General Electric Company (GE) CF34-10E series turbofan engines. That AD currently requires removing the fuel inlet strainer from main fuel pump (MFP) part number (P/N) 2043M12P03, installing a certain replacement flange as an interim repair, remarking the MFP to P/N 2043M12P04, and performing initial and repetitive visual inspections of the main fuel filter. This proposed AD would require removing MFPs, P/N 2043M12P03 and 2043M12P04 from service and installing an improved MFP with a different P/N. This proposed AD results from GE determining that the cause of MFP fuel strainer failure is a design problem with the strainer. We are proposing this AD to prevent engine in-flight shutdown due to MFP malfunctions.

DATES: We must receive any comments on this proposed AD by March 19, 2007.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact General Electric Company via Lockheed Martin Technology Services, 10525 Chester Road, Suite C, Cincinnati, Ohio 45215, telephone (513) 672-8400, fax (513) 672-8422, for the service information identified in this proposed AD.

FOR FURTHER INFORMATION CONTACT: Tara Fitzgerald, Aerospace Engineer, Engine Certification Office, FAA, Engine and Propeller Directorate, 12 New England Executive Park, Burlington, MA 01803; telephone: (781) 238-7130, fax: (781) 238-7199.

SUPPLEMENTARY INFORMATION:

Comments Invited

We invite you to send any written relevant data, views, or arguments regarding this proposal. Send your comments to an address listed under ADDRESSES. Include “Docket No. FAA-2006-25896; Directorate Identifier 2006-NE-33-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and any final disposition in person at the DMS Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Discussion

On September 21, 2006, we issued AD 2006-20-06, Amendment 39-14775 (71 FR 60663, October 16, 2006). That AD requires removing the MFP inlet strainer from the MFPs, installing a certain replacement flange as an interim repair, remarking the MFP to P/N 2043M12P04, and performing initial and repetitive visual inspections of the main fuel filter. That AD was the result of three reports of release of the tripod support legs on the MFP inlet strainer, leading to engine in-flight shutdown. That condition, if not corrected, could result in engine in-flight shutdown due to MFP malfunctions.

Actions Since AD 2006-20-06 Was Issued

Since AD 2006-20-06 was issued, GE determined that the cause of MFP fuel inlet strainer failure is a design problem with the strainers installed in the MFPs. GE has introduced MFP P/N 2043M12P05, which has a more robust design fuel inlet strainer.

FAA's Determination and Requirements of the Proposed AD

We have evaluated all pertinent information and identified an unsafe condition that is likely to exist or develop on other products of this same type design. For that reason, we are proposing this AD, which would require removing MFPs, P/N 2043M12P03 and 2043M12P04 from service and installing an improved MFP, not later than April 30, 2007.

Costs of Compliance

We estimate that this proposed AD would affect 50 CF34-10E series turbofan engines installed on airplanes of U.S. registry. We also estimate that it would take about 3 work-hours per engine to perform the proposed actions, and that the average labor rate is $80 per work-hour. Required parts would cost about $4,226 per engine to upgrade the MFP to a different P/N to make it serviceable. Based on these figures, we estimate the total upgrade cost of the proposed AD to U.S. operators to be $223,300.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14775 (71 FR 60663, October 16, 2006) and by adding a new airworthiness directive to read as follows:

General Electric Company: Docket No. FAA-2006-25896; Directorate Identifier 2006-NE-33-AD.

Comments Due Date

(a) The Federal Aviation Administration (FAA) must receive comments on this airworthiness directive (AD) action by March 19, 2007.

Affected ADs

(b) This AD supersedes AD 2006-20-06, Amendment 39-14755.

Applicability

(c) This AD applies to General Electric Company (GE) CF34-10E2A1, -10E5, -10E5A1, -10E6, -10E6A1, and -10E7 turbofan engines, with main fuel pump (MFP) part number (P/N) 2043M12P03 or P/N 2043M12P04, installed. These engines are installed on, but not limited to, Embraer ERJ 190-100-STD, ERJ 190-100-LR, and ERJ 190-100-IGW airplanes.

Unsafe Condition

(d) This AD results from GE determining that the cause of MFP fuel strainer failure is a design problem with the strainer. We are issuing this AD to prevent engine in-flight shutdown due to MFP malfunctions.

Compliance

(e) You are responsible for having the actions required by this AD performed within the compliance times specified unless the actions have already been done.

MFP Removal and Installation

(f) Not later than April 30, 2007, remove MFPs, P/N 2043M12P03 and 2043M12P04, from service and install a serviceable MFP.

Definition

(g) For the purpose of this AD, a serviceable MFP is one that does not have P/N 2043M12P03 or 2043M12P04.

Recommended Actions

(h) We recommend that operators avoid performing the actions in this AD on both engines installed on the same airplane at the same time, if at all possible.

Alternative Methods of Compliance

(i) The Manager, Engine Certification Office, FAA, has the authority to approve alternative methods of compliance for this AD if requested using the procedures found in 14 CFR 39.19.

Related Information

(j) GE Service Bulletin No. CF34-10E S/B 73-0013, dated December 15, 2006, pertains to the subject of this AD.

(k) Contact Tara Fitzgerald, Aerospace Engineer, Engine Certification Office, FAA, Engine and Propeller Directorate, 12 New England Executive Park, Burlington, MA 01803; telephone (781) 238-7138, fax (781) 238-7199; e-mail: tara.fitzgerald@faa.gov for more information about this AD.

Issued in Burlington, Massachusetts, on January 10, 2007.
Francis A. Favara,
Manager, Engine and Propeller Directorate, Aircraft Certification Service.

[FR Doc. E7-498 Filed 1-16-07; 8:45 am]

BILLING CODE 4910-13-P